DEPARTMENT OF AGRICULTURE

Agricultural Marketing Service

7 CFR Part 1280

[Docket No. LS-08-0041]

Lamb Promotion and Research Program: Procedures To Request Conduct of a Referendum

AGENCY: Agricultural Marketing Service, USDA.

ACTION: Final rule.

SUMMARY: This final rule amends the regulations issued under the Lamb Promotion, Research, and Information Order (Order) pursuant to administrative changes to Web addresses and office locations within the USDA's Agricultural Marketing Service.

DATES: Effective Date: December 17, 2008.

FOR FURTHER INFORMATION CONTACT: Kenneth R. Payne, Chief, Marketing Programs Branch, on (202) 720-1115, fax (202) 720-1125, or by e-mail at Kenneth.Payne@usda.gov.

SUPPLEMENTARY INFORMATION:

Background

The Commodity Promotion, Research, and Information Act of 1996 (Act) (7 U.S.C. 7411-7425) authorizes USDA to establish generic programs of promotion, research, and information for agricultural commodities designed to strengthen an industry's position in the marketplace and to maintain and expand existing domestic and foreign markets and uses for agricultural commodities. Pursuant to the Act, a proposed Order on the Lamb Checkoff Program was published in the Federal Register on September 21, 2001 (66 FR 48764). The final Order was published in the Federal Register on April 11, 2002 (67 FR 17848). Collection of assessments began on July 1, 2002.

This program is funded primarily by those persons engaged in the production and feeding of lambs in the amount of one-half cent ($.005) per pound when live lambs are sold. For purposes of this program, the term “lamb” as defined in the Order means, “any ovine animal of any age, including ewes and rams.”

First handlers, which means the packer or other person who buys or takes possession of lambs from a producer or feeder for slaughter, including custom slaughter, are assessed an additional $.30 cents per head purchased for slaughter or slaughtered by such first handler pursuant to a custom slaughter arrangement. Each person who processes or causes to be processed lamb or lamb products of that person's own production and markets the processed products is assessed one-half cent ($.005) per pound on the live weight at the time of slaughter and is required to pay an additional assessment of $.30 per head. Assessment rates may be adjusted in accordance with applicable provisions of the Act and the Order. The Order also requires persons to collect and remit assessments to the American Lamb Board (Board). Each producer, feeder, or seedstock producer is obligated to pay that portion of the assessment that is equivalent to that producer's, feeder's, or seedstock producer's proportionate share and shall transfer the assessment to the subsequent purchaser. Additionally, a person who is a market agency (i.e., commission merchant, auction market, or broker in the business of receiving such lamb or lamb products for sale on commission for or on behalf of a producer, feeder, or seedstock producer) is required to collect an assessment and transfer the collected assessment on to the subsequent purchaser(s). Such persons will not be subject to the assessment and are not eligible to participate in a referendum. Any person who processes or causes to be processed lamb or lamb products of that person's own production and markets the processed products will be required to pay an additional assessment and remit the total assessment to the Board. Each first handler who buys or takes possession of lambs from a producer or feeder for slaughter is required to pay an additional assessment and remit the total assessment to the Board.

The Act requires that a referendum to ascertain approval of an Order must be conducted no later than 3 years after assessments first begin. Assessments began on July 1, 2002. A referendum of lamb producers, feeders, seedstock producers, and first handlers of lamb and lamb products was conducted from January 31, 2005, through February 28, 2005. A majority of the participants, who represented a majority of the volume of lambs, voted in favor of the continuation of the Order. The Act also requires a subsequent referendum on the Order be conducted no later than 7 years after assessments first begin. Thus, USDA is required to conduct a nationwide referendum among persons subject to the assessment by July 1, 2009. The Order will continue if a majority of those persons voting, who also represent a majority of the volume of lambs, voted in favor of continuing the program. If the continuation of the Order is not approved by eligible persons voting in the referendum, USDA will begin the process of terminating the program.

This final rule amends Web site addresses cited in sections 1280.626 and 1280.631 that are currently outdated. This final rule also amends the physical address cited in section 1280.626, as it is also outdated. This rule is implemented in preparation for the 2009 referendum.

This rule relates to internal agency management. Therefore, this rule is exempt from the provisions of Executive Orders 12866 and 12988, and for this same reason the notice of proposed rulemaking and opportunity for comment are also not required, and this rule may be effective less than 30 days after publication in the Federal Register. In addition, under 5 U.S.C. 804, this rule is not subject to congressional review under the Small Business Regulatory Enforcement Fairness Act of 1996 (Pub. L. 104-121). Finally, this rule is not a rule as defined by the Regulatory Flexibility Act (5 U.S.C. 601-612) (RFA). Therefore, this rule is exempt from the requirements of RFA.

List of Subjects in 7 CFR Part 1280

Administrative practice and procedure, Advertising, Agricultural research, Marketing agreements, Lamb and lamb products, Reporting and recordkeeping requirements.

For the reasons set forth in the preamble, Title 7, part 1280 is amended as follows:

PART 1280—LAMB PROMOTION, RESEARCH, AND INFORMATION

1. The authority citation for 7 CFR part 1280 continues to read as follows:

Authority: 7 U.S.C. 7411-7425 and 7 U.S.C. 7401.

Subpart E—Procedures To Request a Referendum

2. In § 1280.626, paragraph (b) the Web site http://www.ams.usda.gov/lsg/mpb/rp-lamb.htm is removed and a new Web site www.ams.usda.gov/lsmarketingprograms is added in its place.

3. In § 1280.631, paragraph (a) is revised to read as follows:

§ 1280.631 Results of the referendum.

(a) The Administrator, FSA, shall submit to the Administrator, AMS, the reports from all State FSA offices. The Administrator, AMS, shall tabulate the results of the ballots. USDA will issue an official press release announcing the results of referendum and publish the same results in the Federal Register. In addition, USDA will post the official results at the following Web site: http://www.ams.usda.gov/LSMarketingPrograms or such other Web site as announced by the Administrator of AMS. Subsequently, State reports and related papers shall be available for public inspection upon request during normal business hours in the Marketing Programs Branch; Livestock and Seed Program, AMS, USDA, Room 2628-S; STOP 0251; 1400 Independence Avenue, SW., Washington, DC.

* * * * *

Dated: December 10, 2008.
James E. Link,
Administrator, Agricultural Marketing Service.

[FR Doc. E8-29694 Filed 12-15-08; 8:45 am]

BILLING CODE 3410-02-P